DEPARTMENT OF ENERGY

Federal Energy Regulatory Commission

Notice of Electric Quarterly Report Users Group Meeting

| Docket Nos.
Filing Requirements for Electric Utility Service Agreements | RM01-8-000
Electricity Market Transparency Provisions of Section 220 of the Federal Power Act | RM10-12-000
Revisions to Electric Quarterly Report Filing Process | RM12-3-000
Electric Quarterly Reports | ER02-2001-000

Take notice that on May 16, 2017, staff of the Federal Energy Regulatory Commission (Commission) will hold an Electric Quarterly Report (EQR) Users Group meeting. The meeting will take place from 1:00 p.m. to 5:00 p.m. (EST), in the Commission Meeting Room at 888 First Street NE., Washington, DC 20426. All interested persons are invited to attend. For those unable to attend in person, access to the meeting will be available via webcast.

This meeting will provide a forum for dialogue between Commission staff and EQR users to discuss potential improvements to the EQR program and the EQR filing process. Please note that matters pending before the Commission and subject to ex parte limitations cannot be discussed at this meeting. An agenda of the meeting will be provided in a subsequent notice.

Due to the nature of the discussion, those interested in actively participating in the discussion are encouraged to attend in person. All interested persons (whether attending in person or via webcast) are asked to register online at https://www.ferc.gov/whats-new/registration/05-16-17-form.asp. There is no registration fee. Anyone with Internet access who wants to listen to the meeting can do so by navigating to www.ferc.gov's Calendar of Events, locating the EQR Users Group Meeting on the Calendar, and clicking on the link to the webcast. The webcast will allow persons to listen to the technical conference and they can email questions during the meeting to EQRUsersGroup@ferc.gov.

Those who would like to participate in the discussion by telephone during the meeting should send a request for a telephone line to EQRUsersGroup@ferc.gov by 5:00 p.m. (EST) on May 9, 2017 with the subject line: EQR Users Group Meeting Teleconference Request.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the EQR Users Group meeting, please contact Don Callow of the Commission's Office of Enforcement at (202) 502-8838, or send an email to EQRUsersGroup@ferc.gov.

Dated: March 29, 2017.
Kimberly D. Bose,
Secretary.

[FR Doc. 2017-06616 Filed 4-3-17; 8:45 am]

BILLING CODE 6717-01-P